NATIONAL SCIENCE FOUNDATION

Sunshine Act Meetings

FEDERAL REGISTER CITATION OF PREVIOUS ANNOUNCEMENT: The meeting was noticed on September 5, 2023, at 88 FR 60713.

PREVIOUSLY ANNOUNCED TIME AND DATE OF THE MEETING: Wednesday, September 6, 2023, from 2:00-3:00 p.m. EDT.

CHANGES IN THE MEETING: The meeting will be held on Wednesday, September 6, 2023, at 12:00-1:00 p.m.

CONTACT PERSON FOR MORE INFORMATION: Point of contact for this meeting is: Chris Blair, cblair@nsf.gov, 703/292-7000.

Christopher Blair,
Executive Assistant to the National Science Board Office.

[FR Doc. 2023-19510 Filed 9-6-23; 11:15 am]

BILLING CODE 7555-01-P